DEPARTMENT OF ENERGY

[EERE-2014-BT-STD-0005]

RIN 1904-AD15

Energy Conservation Program: Energy Conservation Standards for Consumer Conventional Cooking Products; Extension of Public Comment Period

AGENCY: Office of Energy Efficiency and Renewable Energy, Department of Energy.

ACTION: Supplemental notice of proposed rulemaking; extension of public comment period.

SUMMARY: On February 1, 2023, the U.S. Department of Energy (“DOE”) published a supplemental notice of proposed rulemaking (“SNOPR”) and announcement of public meeting proposing amended energy conservation standards for conventional cooking products and announcing a public meeting to receive comment on the proposed standards and associated analyses and results. (“February 2023 SNOPR”) The notice provided an opportunity for submitting written comments, data, and information by April 3, 2023. DOE received a request from the Association of Home Appliance Manufacturers (AHAM) to extend the written comment period. DOE has reviewed this request and is granting a 14-day extension of the public comment period to allow comments to be submitted until April 17, 2023.

DATES: The comment period for the SNOPR published on February 1, 2023 (88 FR 6818) is extended. Written comments and information regarding the SNOPR will be accepted on or before April 17, 2023.

ADDRESSES: Interested persons are encouraged to submit comments using the Federal eRulemaking Portal at www.regulations.gov under docket number EERE-2014-BT-STD-0005. Follow the instructions for submitting comments. Alternatively, interested persons may submit comments, identified by docket number EERE-2014-BT-STD-0005, by any of the following methods:

Email: ConventionalCookingProducts2014STD0005@ee.doe.gov. Include the docket number EERE-2014-BT-STD-0005 in the subject line of the message.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted.

Docket: The docket for this activity, which includes Federal Register notices, public meeting attendee lists and transcripts (if a public meeting is held), comments, and other supporting documents/materials, is available for review at www.regulations.gov. All documents in the docket are listed in the www.regulations.gov index. However, not all documents listed in the index may be publicly available, such as information that is exempt from public disclosure. The docket web page can be found at www.regulations.gov/docket/EERE-2014-BT-STD-0005. The docket web page contains instructions on how to access all documents, including public comments, in the docket.

FOR FURTHER INFORMATION CONTACT:

Dr. Carl Shapiro, U.S. Department of Energy, Office of Energy Efficiency and Renewable Energy, Building Technologies Office, Mailstop EE-5B, 1000 Independence Avenue SW, Washington, DC 20585-0121. Telephone: (202) 287-5649. Email: ApplianceStandardsQuestions@ee.doe.gov.

Ms. Celia Sher, U.S. Department of Energy, Office of the General Counsel, Mail Stop GC-33, Forrestal Building, 1000 Independence Avenue SW, Washington, DC 20585-0103. Telephone: (202) 287-6122. Email: Celia.Sher@hq.doe.gov.

For further information on how to submit a comment, review other public comments and the docket, or participate in the public meeting, contact the Appliance and Equipment Standards Program staff at (202) 287-1445 or by email: ApplianceStandardsQuestions@ee.doe.gov.

SUPPLEMENTARY INFORMATION: DOE published a notice of proposed determination (“NOPD”) on December 14, 2020, in which DOE initially determined that current standards for consumer conventional cooking products do not need to be amended. 85 FR 80982. DOE stated in the December 2020 NOPD that it would reevaluate the energy savings associated with identified technology options for the product if it considered performance standards in a future rulemaking. Id. at 85 FR 81004. Subsequently, on August 22, 2022, DOE published a final rule establishing a test procedure for conventional cooking tops. 87 FR 51492. As a result of this new test procedure, DOE issued the February 2023 SNOPR, in which DOE reevaluated its analysis from the December 2020 NOPD and tentatively concluded that amended energy conservation standards for consumer conventional cooking products are technologically feasible and economically justified. 88 FR 6818. The February 2023 SNOPR announced a public meeting to receive comment on the proposed standards and provided for the written submission of comments by April 3, 2023. Id.

On March 10, 2023, DOE received a request from the Association of Home Appliance Manufacturers (“AHAM”) to extend the written comment period on the February 2023 SNOPR by 45 days. AHAM stated that there are a significant number of other regulatory comment periods open simultaneously, many of which impact the same manufacturers, and all of which impact AHAM's ability to work with their members to discuss and analyze the proposed rule and provide meaningful comment to DOE. (AHAM, No. 764).

Given the unique circumstances of this product, which include a long rulemaking history, several changes in rulemaking course, and the availability of new data, DOE determines that an extension of the public comment period is appropriate to allow interested parties additional time to submit comments for DOE's consideration. Thus, DOE is extending the comment period by 14 days, until April 17, 2023.

Signing Authority

This document of the Department of Energy was signed on March 22, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 24, 2023.
Treena V. Garrett,
Federal Register Liaison Officer, U.S. Department of Energy.

[FR Doc. 2023-06486 Filed 3-29-23; 8:45 am]

BILLING CODE 6450-01-P